ENVIRONMENTAL PROTECTION AGENCY

[EPA-HQ-OPP-2007-0975; FRL-8859-7]

Methomyl: Cancellation Order for Amendments to Terminate Use of Methomyl on Grapes; Correction

AGENCY: Environmental Protection Agency (EPA).

ACTION: Notice; correction.

SUMMARY: EPA issued a notice in the Federal Register of Wednesday, December 8, 2010, concerning amendments to terminate use of methomyl on grapes. This document is being issued to correct the effective date of the amendments.

FOR FURTHER INFORMATION CONTACT: Tom Myers, Pesticide Re-evaluation Division (7508P), Office of Pesticide Programs, Environmental Protection Agency, 1200 Pennsylvania Ave., NW., Washington, DC 20460-0001; telephone number: (703) 308-8589; e-mail address: myers.tom@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

EPA has established a docket for this action under docket identification (ID) number EPA-HQ-OPP-2007-0975. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Does this Correction Do?

FR Doc. 2010-30865 published in the Federal Register of Wednesday, December 8, 2010 (75 FR 76456) (FRL-8855-6) is corrected as follows:

1. On page 76456, in the second column, the DATES line, is corrected to read “DATES: The amendments are effective May 9, 2011.”

2. On page 76457, in the first column, in Unit IV. Cancellation Order, the third sentence which reads in part “The effective date of the * * * ” is corrected to read “The effective date of the amendments that are the subject of this notice is May 9, 2011.”

List of Subjects

Environmental protection, Agricultural commodities, pesticides and pests.

Dated: January 3, 2011.
Richard P. Keigwin, Jr.,
Director, Pesticide Re-evaluation Division, Office of Pesticide Programs.

[FR Doc. 2011-344 Filed 1-11-11; 8:45 am]

BILLING CODE 6560-50-P